DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than January 22, 2001.

Interested persons are invited to submit written comments regarding the subject matter of the investigations to the Director, Division of Trade Adjustment Assistance, at the address shown below, not later than January 22, 2001.

The petitions filed in this case are available for inspection at the Office of the Director, Division of Trade Adjustment Assistance, Employment and Training Administration, U.S. Department of Labor, Room C-5311, 200 Constitution Avenue, NW., Washington, DC 20210.

Signed at Washington, D.C. this 18th day of December, 2000.
Edward A. Tomchick,
Director, Division of Trade Adjustment Assistance.

Appendix
[Petitions Instituted on 12/18/2000]
TA-W | Subject firm (Petitioners) | Location | Date of petition | Product(s)
38,424 | Georgia Pacific (PACE) | Baileyville, ME | 12/01/2000 | Lumber.
38,425 | Ameripol Synpol Corp. (PACE) | Port Neches, TX | 11/30/2000 | Synthetic Rubber.
38,426 | Universal Furniture (Co.) | Marion, NC | 11/30/2000 | Bedroom and Dining Room Furniture.
38,427 | M.H. Rhodes (IAMAW) | Avon, CT | 12/01/2000 | Meters and Timing Devices.
38,428 | U.S. Tape & Sticky Prod. (Wkrs) | Gloucester, MA | 11/30/2000 | Transparent Tape.
38,429 | Paper Calmenson & Co. (IUE) | St. Paul, MN | 12/04/2000 | Ground Engaging Tools.
38,430 | Lipton (Co.) | Dallas, TX | 12/05/2000 | Bulk Margarine.
38,431 | Warm Springs Forest (Co.) | Warm Springs, OR | 12/05/2000 | Dimensional Lumber.
38,432 | Singer Sewing Co. (Wkrs) | Murfreesboros, TN | 11/28/2000 | Industrial Sewing Machines.
38,433 | Full Line Distributors (Co.) | Canton, GA | 12/06/2000 | T-Shirts, Sweatshirts, Rompers.
38,434 | Condor DC Power Supplies (Co.) | Brentwood, NY | 11/30/2000 | Switching Power Supplies.
38,435 | Blackfeet Writing (Wkrs) | Browning, MT | 11/21/2000 | Writing Instruments.
38,436 | United States Leather (Wkrs) | El Paso, TX | 12/01/2000 | Leather Hides.
38,437 | AWC Crestline (Co.) | Commerce, TX | 11/30/2000 | Wood Bi-Fold Doors.
38,438 | Bend N Stretch (Wkrs) | Haileah, FL | 11/30/2000 | Fabrics.
38,439 | Eastern Fine Paper (Co.) | Brewer, ME | 12/05/2000 | Opaques and Silicon Coated Release Paper.
38,440 | U.S. Forest Industries (Co.) | Medford, OR | 11/21/2000 | Veneer, Plywood and Lumber.
38,441 | New Process Gear (UAW) | East Syracuse, NY | 11/29/2000 | Transfer Cases, Manual Transmissions.
38,442 | CMI Industries (Co.) | Clinton, SC | 12/04/2000 | Unfinished Cloth.
38,443 | NTN/BCA Corp. (Wkrs) | Lititz, PA | 12/03/2000 | Bearings—Auto and Farm Equipment.
38,444 | Berenfield Containers (Wkrs) | Mason, OH | 12/04/2000 | Steel Drums.
38,445 | Burlington Resources (Wkrs) | Farmington, NM | 12/01/2000 | Oil and Gas Exploration.
38,446 | Sherwood Dash USA (Wkrs) | Rancho Cucamong, CA | 10/13/2000 | Auto Wood Dash Kits.
38,447 | Pinebluff (Wkrs) | Pinebluff, NC | 12/04/2000 | Curtains.
38,448 | Fruit of the Loom (Wkrs) | Osceola, RA | 11/27/2000 | Textiles.
38,449 | Hasbro (Wkrs) | El Paso, TX | 12/04/2000 | Toys.
38,450 | Specialty Minerals (Wkrs) | Mobile, AL | 12/06/2000 | Calcium Carbonates.
38,451 | Chicago Lock (Wkrs) | Pleasant Prairi, WI | 12/05/2000 | Security Locks for Vending Machines.
38,452 | ARA Cutting (Wkrs) | Miami, FL | 12/06/2000 | Levi Dockers and Shorts.
38,453 | Thomas and Betts (Co.) | Pembroke, MA | 12/06/2000 | Electronic Photocontrols.
38,454 | Centec Roll (Wkrs) | Bethlehem, PA | 12/07/2000 | Rolls for Rolling Mill Operations.
38,455 | Plainwell Paper (PACE) | Plainwell, MI | 12/07/2000 | Printing Papers.
38,456 | Butterfield Logging (Co.) | Post Falls, ID | 11/30/2000 | Logs.
38,457 | Copper Range Company (Co.) | White Pine, MI | 11/09/2000 | Cathode Copper.

[FR Doc. 01-937 Filed 1-10-01; 8:45 am]

BILLING CODE 4510-30-M